DEPARTMENT OF TRANSPORTATION

Federal Aviation Administration

14 CFR Part 39

[Docket No. 2000-NE-45-AD]

RIN 2120-AA64

Airworthiness Directives; Hartzell Propeller Inc., Model HD-E6C-3B/E13890K Propellers

AGENCY: Federal Aviation Administration, DOT.

ACTION: Notice of proposed rulemaking (NPRM).

SUMMARY: The Federal Aviation Administration (FAA) proposes to adopt a new airworthiness directive (AD) that is applicable to Hartzell Propeller Inc. HD-E6C-3B/E13890K propellers. This proposal would require the reduction of the original hub certified service (fatigue) life from unlimited hours to 37,400 flight hours. This proposal is prompted by a reevaluation by Hartzell Propeller Inc. of the D-5108-( ) original hub service life certification calculations. The actions specified by the proposed AD are intended to prevent fatigue failure of D-5108-( ) hubs, which may result in loss of airplane control.

DATES: Comments must be received by November 22, 2002.

ADDRESSES: Submit comments in triplicate to the Federal Aviation Administration (FAA), New England Region, Office of the Regional Counsel, Attention: Rules Docket No. 2000-NE-45-AD, 12 New England Executive Park, Burlington, MA 01803-5299. This information may be examined, by appointment, at the FAA, New England Region, Office of the Regional Counsel, 12 New England Executive Park, Burlington, MA. Comments may also be sent via the Internet using the following address: 9-ane-adcomment@faa.gov. Comments sent via the Internet must contain the docket number in the subject line.

FOR FURTHER INFORMATION CONTACT: Tomaso DiPaolo, Aerospace Engineer, Chicago Aircraft Certification Office, FAA, Small Airplane Directorate, 2300 East Devon Avenue, Des Plaines, IL 60018, telephone; (847) 294-7031, fax; 847 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NE-45-AD.” The postcard will be date stamped and returned to the commenter.

Availability of NPRM's

Any person may obtain a copy of this NPRM by submitting a request to the FAA, New England Region, Office of the Regional Counsel, Attention: Rules Docket No. 2000-NE-45-AD, 12 New England Executive Park, Burlington, MA 01803-5299.

Discussion

As a result of an in-service occurrence of a cracked hub, Hartzell

Propeller Inc. has reevaluated the service (fatigue) life of the D-5108-( ) hub installed in the HD-E6C-3B/E13890K propeller. Hartzell has reduced the original hub certified service (fatigue) life from unlimited hours to 37,400 flight hours. Exceeding this life limit could result in fatigue failure of the hub, which may result in loss of airplane control. The 37,400 flight hour life limit is documented in the Airworthiness Limitations section of Hartzell Manual 161.

Determination of an Unsafe Condition

Since an unsafe condition has been identified that is likely to exist or develop on other Hartzell Propeller Inc. HD-E6C-3B/E13890K propellers of the same type design, the proposed AD would require the reduction of D-5108-( ) hub certified service (fatigue) life from unlimited hours, to 37,400 flight hours.

Economic Analysis

There are approximately 250 propellers of the affected design in the worldwide fleet. The FAA estimates that 140 propellers installed on aircraft of U.S. registry would be affected by this proposed AD, that it would take approximately 30 work hours per propeller to do the proposed actions, and that the average labor rate is $60 per work hour. The approximate cost of a new hub is $20,000. Based on these figures, the total cost of the proposed AD on U.S. operators is estimated to be $3,052,000.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Hartzell Propeller Inc.: Docket No. 2000-NE-45-AD.

Applicability: This airworthiness directive (AD) is applicable to Hartzell Propeller Inc., Model HD-E6C-3B/E13890K propellers with D-5108-( ) hubs installed. These propellers are installed on, but not limited to, Fairchild Dornier GmbH 328-100 series airplanes.

Note 1: This AD applies to the propeller identified in the preceding applicability provision, regardless of whether it has been modified, altered, or repaired in the area subject to the requirements of this AD. For propellers that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done.

To prevent fatigue failure of Hartzell D-5108-( ) hubs, which may result in loss of airplane control, do the following:

(a) Remove from service D-5108-( ) hubs before exceeding 37,400 flight hours and replace with a serviceable hub.

(b) After the effective date of this AD, do not install any D-5108-( ) hub that has accumulated 37,400 flight hours.

Alternative Methods of Compliance

(c) An alternative method of compliance or adjustment of the compliance time that provides an acceptable level of safety may be used if approved by the Manager, Chicago Aircraft Certification Office (ACO). Operators must submit their request through an appropriate FAA Principal Maintenance Inspector, who may add comments and then send it to the Manager, Chicago ACO.

Special Flight Permits

(d) Special flight permits may be issued in accordance with §§ 21.197 and 21.199 of the Federal Aviation Regulations (14 CFR 21.197 and 21.199) to operate the airplane to a location where the requirements of this AD can be done.

Issued in Burlington, Massachusetts, on September 13, 2002.
Jay J. Pardee,
Manager, Engine and Propeller Directorate, Aircraft Certification Service.

[FR Doc. 02-24018 Filed 9-20-02; 8:45 am]

BILLING CODE 4910-13-P